DEPARTMENT OF THE INTERIOR

Bureau of Safety and Environmental Enforcement

[19XE8370SD//EEGG600000//ED1OS0000.JR0000]

Notice of Public Meeting

AGENCY: Bureau of Safety and Environmental Enforcement (BSEE), Interior.

ACTION: Notice of public meeting.

SUMMARY: The Bureau of Safety and Environmental Enforcement (BSEE) is hosting a public meeting to discuss advancement of a low-emission spray combustion unit for responding to oil spills.

DATES: This public meeting will be held on December 10, 2018 from 9 to 11 a.m.

ADDRESSES: The meeting will be held in Room 121 at 1201 Elmwood Park Blvd., New Orleans, LA 70123.

FOR FURTHER INFORMATION CONTACT: Karen N. Stone, (703) 787-1810 or email karen.stone@bsee.gov.

SUPPLEMENTARY INFORMATION: This notice is to inform the interested public that BSEE, Oil Spill Preparedness Division (OSPD), Response Research Branch will be conducting a public meeting to discuss advancement of a low-emission spray combustion unit being designed to burn water-in-oil emissions. System integration including platform/barge configurations will be discussed to ready the unit towards use in oil spill cleanup operations.

Dated: October 24, 2018.
Scott A. Angelle,
Director, Bureau of Safety and Environmental Enforcement.

[FR Doc. 2018-23709 Filed 10-29-18; 8:45 am]

BILLING CODE 4310-VH-P